DEPARTMENT OF VETERANS AFFAIRS

[OMB Control No. 2900-0878]

Agency Information Collection Activity Under OMB Review: Edith Nourse Rogers STEM Scholarship

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0878.”

FOR FURTHER INFORMATION CONTACT: Maribel Aponte, Office of Enterprise and Integration, Data Governance Analytics (008), 810 Vermont Ave. NW, Washington, DC 20420, (202) 266-4688 or email Maribel.aponte@va.gov. Please refer to “OMB Control No. 2900-0878” in any correspondence.

SUPPLEMENTARY INFORMATION:

Authority: Public Law 115-48 Section 111, and Title 38 U.S.C. 3320.

Title: Edith Nourse Rogers STEM Scholarship, VAF 22-10203.

OMB Control Number: 2900-0878.

Type of Review: Revision of a currently approved collection.

Abstract: Section 111 of Public Law 115-48 added new Section 3320 to title 38, U.S.C. 3320 authorizes VA to administer the Edith Nourse Rogers STEM Scholarship Program. Under the program, VA provides up to 9 months or $30,000 of Post-9/11 GI Bill benefits to certain eligible individuals selected by the Secretary of VA. To apply for and receive the scholarship, an individual must complete the application, VA Form 22-10203. VA continues to require approval of this information collection so students can continue to apply, and for VA to continue to assess how to prioritize the awarding of the Scholarship, based on the information collected on the form. This collection renewal resulted in a decrease in burden hours due to a significant decrease in the initial number of scholarship applicants that submitted an application for the program during the periods from 2020 and 2021.

An agency may not conduct or sponsor, and a person is not required to respond to a collection of information unless it displays a currently valid OMB control number. The Federal Register Notice with a 60-day comment period soliciting comments on this collection of information was published at 88 FR 9966 on February 15, 2023, page(s) 9966-9967.

Affected Public: Individuals and Households.

Estimated Annual Burden: 1,396 hours.

Estimated Average Burden Time Per Respondent: 5 minutes.

Frequency of Response: Once.

Estimated Number of Respondents: 16,752.

By direction of the Secretary.
Dorothy Glasgow,
VA PRA Clearance Officer (Alt.), Office of Enterprise and Integration, Data Governance Analytics, Department of Veterans Affairs.

[FR Doc. 2023-08329 Filed 4-19-23; 8:45 am]

BILLING CODE 8320-01-P